COMMODITY FUTURES TRADING COMMISSION

Sunshine Act Meetings

Federal Register Citation of Previous Announcement: 82 FR 12348, March 2, 2017.

Previously Announced Time and Date of the Meeting: 11:00 a.m., Thursday, March 9, 2017.

Changes in the Meeting: The meeting has been cancelled.

Contact Person for More Information: Christopher Kirkpatrick, 202-418-5964.

Christopher J. Kirkpatrick,
Secretary of the Commission.

[FR Doc. 2017-04594 Filed 3-6-17; 11:15 am]

BILLING CODE 6351-01-P